ENVIRONMENTAL PROTECTION AGENCY

[EPA-HQ-ORD-2008-0067, FRL-8562-2]

Agency Information Collection Activities: Proposed Collection; Comment Request; Technology Performance and Product Information to Support Vendor Information Summaries (Renewal), EPA ICR Number 2154.03, OMB Control Number 2050-0194

AGENCY: Environmental Protection Agency (EPA).

ACTION: Notice.

SUMMARY: In compliance with the Paperwork Reduction Act (PRA) (44 U.S.C. 3501 et seq.), this document announces that EPA is planning to submit a continuing Information Collection Request (ICR) to the Office of Management and Budget (OMB). This is a request to renew an existing approved collection. This ICR is scheduled to expire on May 31, 2008. Under OMB regulations, the Agency may continue to conduct or sponsor the collection of information while this submission is pending at OMB. This ICR describes the nature of the information collection and its estimated burden and cost.

DATES: Comments must be submitted on or before June 5, 2008.

ADDRESSES: Submit your comments, referencing docket ID number EPA-HQ-ORD-2008-0067, to (1) EPA online using http://www.regulations.gov (our preferred method), by e-mail to ord.docket@epa.gov or by mail to: EPA Docket Center, Environmental Protection Agency, ORD Docket, Mail Code 2822T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Shannon D. Serre, Environmental Protection Agency, 109 T.W. Alexander Drive, E343-06, Research Triangle Park, NC, 27711; telephone number: 919-541-3817; fax number: 919-541-0496; email address: serre.shannon@epa.gov.

SUPPLEMENTARY INFORMATION: EPA has submitted the following ICR to OMB for review and approval according to the procedures prescribed in 5 CFR 1320.12. On February 12, 2008 (73 FR 8040) EPA sought comments on this ICR pursuant to 5 CFR 1320.8(d). EPA received no comments.

EPA has established a public docket for this ICR under Docket ID No. EPA-HQ-ORD-2008-0067, which is available for online viewing at www.regulations.gov, or in person viewing at the Office of Research and Development (ORD) Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the ORD Docket is 202-566-1752.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to http://www.regulations.gov.

Title: Technology Performance and Product Information to Support Vendor Information Summaries (Renewal).

Abstract: The U.S. EPA Office of Research and Development's National Homeland Security Research Center (NHSRC) is helping to protect human health and the environment from adverse impacts resulting from intentional acts of terror. With an emphasis on decontamination and consequence management, water infrastructure protection, and threat and consequence assessment, NHSRC scientists and engineers are working to develop tools and information that will help detect the intentional introduction of chemical, biological, and radiological contaminants in buildings or water systems, the containment of these contaminants, the decontamination of buildings and/or water systems, and the disposal of material resulting from cleanups.

An important facet of the NHSRC mission is identifying, testing, and evaluating technologies to support emergency response personnel, consequence managers, decision-makers, and government officials. EPA has initiated this effort to develop brief vendor information summaries of available technologies relevant to the detection and decontamination of drinking water systems, building materials, building structures, and indoor air that may become contaminated with chemical, biological, or radiological contaminants. These summaries will be based upon vendor-generated or provided information including any independent, validated test data generated by governmental or other organizations and provided to EPA through this ICR. Information provided will be used to produce 4-10 page summaries on each of the technologies for which vendors voluntarily agreed to submit the requested information. These summaries will be shared with EPA and other emergency response personnel, building and facility managers, and water utility operators. The information provided by technology developers and vendors will also be used by the NHSRC's Technology Testing and Evaluation Program (TTEP) to identify technologies that may be suitable candidates for testing and evaluation and to track those technologies under development that may eventually be ready for rigorous testing and evaluation.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 15 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Estimated total number of potential respondents: 70.

Frequency of response: On occasion.

Estimated total average number of responses for each respondent: 1.

Estimated total annual burden hours: 1050 hours.

Estimated total annual costs: $81,620. This includes an estimated burden cost of $81,200 and an estimated cost of $420 for capital investment or maintenance and operational costs.

Changes in the estimates: There is no change estimated to occur.

Dated: April 29, 2008.
Sara Hisel-McCoy,
Director, Collection Strategies Division.

[FR Doc. E8-9961 Filed 5-5-08; 8:45 am]

BILLING CODE 6560-50-P